DEPARTMENT OF LABOR

Occupational Safety and Health Administration

[Docket No. ICR-1218-0184 (2006)]

Standard on 4,4′-Methylenedianiline (MDA) in General Industry; Extension of the Office of Management and Budget's Approval of Information Collection (Paperwork) Requirements

AGENCY: Occupational Safety and Health Administration (OSHA), Labor.

ACTION: Request for public comment.

SUMMARY: OSHA requests public comment concerning its proposed extension of the information collection requirements specified by the Standard on 4,4′-Methylenedianiline in General Industry (29 CFR 1910.1050). The standard protects employees from the adverse health effects that may result from occupational exposure to MDA, including cancer and liver disease.

DATES: Comments must be submitted by the following dates:

Hard copy: Your comments must be submitted (postmarked or received) by October 30, 2006.

Facsimile and electronic transmission: Your comments must be received by October 30, 2006.

ADDRESSES: You may submit comments, identified by OSHA Docket No. ICR-1218-0184 (2006), by any of the following methods:

I. Submission of Comments

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments, and submissions are available for inspection and copying at the OSHA Docket Office at the address above. You may also contact Todd Owen at the address below to obtain a copy of the ICR. For additional information on submitting comments, please see the “Public Participation” section in SUPPLEMENTARY INFORMATION.

FOR FURTHER INFORMATION CONTACT: Jamaa Hill or Todd Owen, Directorate of Standards and Guidance, OSHA, U.S. Department of Labor, Room N-3609, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the desired format, reporting burden (time and costs) is minimized, collection instruments are understandable, and OSHA's estimate of the information collection burden is correct. The Occupational Safety and Health Act of 1970 (the Act) authorizes information collection by employers as necessary or appropriate for enforcement of the Act or for developing information regarding the causes and prevention of occupational injuries, illnesses, and accidents (29 U.S.C. 657).

The information collection requirements specified in the Standard on 4,4′-Methylenedianiline in General Industry (the “Standard”) protect employees from the adverse health effects that may result from their exposure to MDA, including cancer and liver disease. The major paperwork requirements specify that employers must develop a written emergency plan for each workplace where there is a possibility of an emergency (i.e., an unexpected and potentially hazardous release of MDA); perform initial, periodic, and additional exposure monitoring; and notifying each employee in writing within 15 days after the receipt of exposure-monitoring results, either individually or by posting. In addition, employers must perform routine visual inspections of the hands, face, and forearms of each employee potentially exposed to MDA for signs of dermal exposure to MDA and, if they determine that employees have been exposed to MDA, they must maintain records of the corrective actions taken. Employers must also: Establish and implement a written compliance program and implement a respiratory protection program in accordance with 29 CFR 1910.134 (OSHA's Respiratory Protection Standard).

Employers must label any container of MDA-contaminated protective work clothing or equipment that will be taken out of changing rooms or other workplace areas for cleaning, maintenance, or disposal. Employers must also inform personnel who launder MDA-contaminated clothing of the requirement to prevent release of MDA, while personnel who launder or clear MDA-contaminated protective clothing or equipment must receive information about the potentially harmful effects of MDA. In addition, employers are to post and maintain legible warning signs demarcating regulated areas and entrances or accessways to regulated areas, as well as provide employees with information and training on the Standard and specific components of the MDA program at the time of their initial assignment, and at least annually thereafter; employers must provide employees, OSHA, and the National Institute for Occupational Safety and Health (“NIOSH”) with access to the training materials.

Additional paperwork provisions of the Standard require employers to provide employees with medical examinations, including initial, periodic, emergency, and additional examinations. Under specified conditions, employers also must establish a multiple-physician review mechanism to provide employees with a second opinion regarding the results of these medical examinations and a program to remove employees from MDA exposure. As part of the medical surveillance program, employers must ensure that the examining physician receives specific written information, and that they obtain from the physician a written opinion regarding the employee's medical results and exposure limitations.

The recordkeeping provisions require employers to establish and maintain records of the monitoring data or objective data they use to gain an exemption from the Standard, as well as exposure-monitoring, medical surveillance, and medical removal information collected under the Standard. Employers also must make any required record available to OSHA compliance officers and NIOSH for examination and copying, and provide exposure-monitoring and medical surveillance records to employees and their designated representatives. Finally, employers who cease to do business without a successor employer to receive and retain records for the required periods must notify NIOSH at least 90 days before disposing of the records and transmit the records to NIOSH if so requested.

II. Special Issues for Comment

OSHA has a particular interest in comments on the following issues:

• Whether the proposed information collection requirements are necessary for the proper performance of the Agency's functions to protect employees, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of the collection of information requirements specified by the Standard 4,4′-Methylenedianiline in General Industry (29 CFR 1910.1050), and to decrease the total burden hour estimate by two hours. The Agency will summarize the comments submitted in response to this notice, and will include this summary in this request to OMB to extend the approval of these information collection requirements.

Type of Review: Extension of currently approved information collection requirements.

Title: 4,4′-Methylenedianiline Standard in General Industry (29 CFR 1910.1050).

OMB Number: 1218-0184.

Affected Public: Business or other for-profit.

Number of Respondents: 13.

Frequency of Recordkeeping: On occasion; quarterly; semi-annually; annually.

Average Time per Response: Varies from five minutes (.08 hours) to provide information to the physician to two hours to perform periodic monitoring.

Total Annual Hours Requested: 293.

Estimated Cost (Operation and Maintenance): $19,037.

IV. Authority and Signature

Edwin G. Foulke, Jr., Assistant Secretary of Labor for Occupational Safety and Health, directed the preparation of this notice. The authority for this notice is the Paperwork Reduction Act of 1995 (44 U.S.C. 3506) and Secretary of Labor's Order No. 5-2002 (67 FR 65008).

Signed at Washington, DC, on August 24, 2006.
Edwin G. Foulke, Jr.,
Assistant Secretary of Labor.

[FR Doc. 06-7254 Filed 8-29-06; 8:45 am]

BILLING CODE 4510-26-M